DEPARTMENT OF TRANSPORTATION

Federal Highway Administration

Notice of Final Federal Agency Actions on Proposed Transportation Improvements in Utah

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to the proposed interchange and roadway improvement project (Bangerter 600 West Project) in Draper, Salt Lake County in the State of Utah. These actions grant licenses, permits, and approvals for the project.

DATES: By this notice, the FHWA is advising the public of final agency actions subject to 23 U.S.C. 139(l)(1). A claim seeking judicial review of the Federal agency actions on the highway project will be barred unless the claim is filed on or before September 22, 2012. If the Federal law that authorizes judicial review of a claim provides a time period of less than 180 days for filing such claim, then that shorter time period still applies.

FOR FURTHER INFORMATION CONTACT: For FHWA: Mr. Edward Woolford, Environmental Program Manager, Federal Highway Administration, 2520 West 4700 South, Suite 9A, Salt Lake City, Utah 84129; telephone: (801) 955-3500; email: Edward.Woolford@dot.gov. The FHWA Utah Division Office's normal business hours are 7:35 a.m. to 4:30 p.m. (Mountain Standard Time).

SUPPLEMENTARY INFORMATION: Notice is hereby given that the FHWA and other Federal agencies have taken final agency actions by issuing licenses, permits, and approvals for the following highway project in the State of Utah: The Bangerter 600 West Project in Draper, Salt Lake County, Utah, project number FHWA-UT-EIS-11-01-F. Federal Lead Agency: Federal Highway Administration. Project Description: The project consists of improvements to Bangerter Highway between Interstate 15 (I-15) and the Union Pacific Railroad (UPRR) line at about 900 West in the city of Draper in Salt Lake County. The Selected Alternative (600 West Interchange with Right Turns Only at 200 West Alternative (Alternative 4F)) implements a transportation project consisting of: (1) A new interchange on Bangerter Highway at about 600 West; (2) eliminates the signals from the intersection at 200 West; (3) allows only right turns at the 200 West intersection. Left turns would not be permitted; (4) adds an additional west travel lane on Bangerter Highway between I-15 and the 600 West interchange; (5) adds an additional lane on the southbound I-15 off ramp; (6) adds a dedicated right-turn lane on westbound Bangerter Highway between I-15 and 200 West; (7) adds an acceleration lane from 200 West onto westbound Bangerter Highway to 600 West; (8) builds a connecting five-lane arterial from the 600 West interchange to the intersection of 13490 South and 200 West; (9) builds a connecting five-lane arterial to tie into 13800 South; (10) makes improvements to the 13490 South/200 West intersection to improve traffic flow. This would include providing double left-turn lanes from eastbound 13490 South to northbound 200 West; (11) relocates the Jordan and Salt Lake City Canal or place it in a pipe; (12) relocates utilities (fiber optic and drainage features) along Bangerter Highway; (13) includes stormwater drainage and passive water quality treatment.

The actions by the FHWA and other Federal agencies, and the laws under which such actions were taken, are described in the Final Environmental Impact Statement (FEIS) for the project, approved on November 18, 2011, in the FHWA Record of Decision (ROD) issued on March 7, 2012, and other key documents. The FEIS and ROD are available by contacting FHWA at the address provided above. The FHWA FEIS and ROD can be viewed and downloaded from the project Web site at http://www.udot.utah.gov/bangerter600west/, or viewed at public libraries in the project area.

This notice applies to all Federal agency decisions on the project as of the issuance date of this notice and all laws under which such actions were taken, including but not limited to:

1. General: National Environmental Policy Act (NEPA) [42 U.S.C. 4321- 4347]; Federal-Aid Highway Act [23 U.S.C. 109];

2. Air: Clean Air Act [42 U.S.C. 7401- 7671(q)];

3. Land: Section 4(f) of the Department of Transportation Act of 1966 [49 U.S.C. 303];

4. Wildlife: Endangered Species Act [16 U.S.C. 1531-1544]; Migratory Bird Treaty Act [16 U.S.C. 703-712];

5. Historic and Cultural Resources: Section 106 of the National Historic Preservation Act of 1966, as amended [16 U.S.C. 470f];

6. Social and Economic: Civil Rights Act of 1964 [42 U.S.C. 2000(d)- 2000(d)(1)]; Farmland Protection Policy Act (FPPA) [7 U.S.C. 4201-4209];

7. Wetlands and Water Resources: Clean Water Act, 33 U.S.C. 1251-1377 [Section 404, Section 401, Section 319]; Safe Drinking Water Act [42 U.S.C. 300f et seq.]; TEA-21 Wetlands Mitigation [23 U.S.C. 103(b)(6)(m), 133(b)(11)]; Flood Disaster Protection Act [42 U.S.C. 4001-129].

Executive Orders: E.O. 11990, Protection of Wetlands; E.O. 11988, Floodplain Management; E.O. 12898, Federal Actions to Address Environmental Justice in Minority Populations and Low Income Populations; E.O. 13175, Consultation and Coordination with Indian Tribal Governments; E.O. 13112, Invasive Species. Nothing in this notice creates a cause of action under these Executive Orders.

(Catalog of Federal Domestic Assistance Program Number 20.205, Highway Planning and Construction. The regulations implementing Executive Order 12372 regarding intergovernmental consultation on Federal programs and activities apply to this program.)

Authority: 23 U.S.C. 139(l)(1).

Issued on: March 19, 2012.
James C. Christian,
Division Administrator, Salt Lake City.

[FR Doc. 2012-7168 Filed 3-23-12; 8:45 am]

BILLING CODE 4910-RY-P